DEPARTMENT OF LABOR

Employment and Training Administration

[TA-W-40,256]

Lucent Technologies (Now Known as Celestica), Columbus Works, Columbus, OH; Notice of Revised Determination on Reconsideration

By letter of February 28, 2002, the International Brotherhood of Electrical Workers, Local 2020 requested administrative reconsideration regarding the Department's Negative Determination Regarding Eligibility to Apply for Worker Adjustment Assistance, applicable to the workers of the subject firm.

The initial investigation resulted in a negative determination issued on January 31, 2002, based on the finding that imports of circuit packs did not contribute importantly to worker separations at Lucent Technologies, (now known as Celestica), Columbus Works, Columbus, Ohio. The denial notice was published in the Federal Register on February 13, 2002 (67 FR 6748).

The petitioner on reconsideration alleged that the company shifted production of circuit packs to Canada and China and began importing the products back to the United States during the relevant period.

A review of data supplied in the initial investigation and further clarification obtained from the company shows that a major portion of production at the subject firm was transferred to foreign sources and that greater than half of that production was imported back to the United States during the relevant period.

Conclusion

After careful review of the additional facts obtained on reconsideration, I conclude that increased imports of articles like or directly competitive with those produced at Lucent Technologies, (now known as Celestica), Columbus Works, Columbus, Ohio, contributed importantly to the declines in sales or production and to the total or partial separation of workers at the subject firm. In accordance with the provisions of the Act, I make the following certification:

All workers of Lucent Technologies, (now known as Celestica), Columbus Works, Columbus, Ohio, who became totally or partially separated from employment on or after October 10, 2000 through two years from the date of this certification, are eligible to apply for adjustment assistance under Section 223 of the Trade Act of 1974.

Signed in Washington, DC, this 30th day of May, 2002.
Edward A. Tomchick,
Director, Division of Trade Adjustment Assistance.

[FR Doc. 02-14797 Filed 6-11-02; 8:45 am]

BILLING CODE 4510-30-P